DEPARTMENT OF LABOR

Employment and Training Administration

Workforce Investment Act—Limited English Proficiency and Hispanic Worker Initiative

Announcement Type: New. Notice of solicitation for grant applications.

Funding Opportunity Number: SGA/DFA PY-05-02.

Catalog of Federal Domestic Assistance CFDA Number: 17.261.

Key Dates: Deadline for Application Receipt—August 15, 2005.

Executive

Executive Summary: The U.S. Department of Labor, Employment and Training Administration (ETA), announces the availability of approximately $5 million in demonstration grant funds to test unique and innovative training strategies for services to individuals with Limited English Proficiency (LEP) (those who do not speak English as their primary language and who have a limited ability to read, speak, write, or understand English ¹ ) and Hispanic Americans, specifically, those who lack basic and occupational skills needed by high-growth occupations. This demonstration program is targeted to incumbent workers, new job entrants or youth who lack the language, basic skills, and occupational skills necessary to succeed in the 21st century workplace. This demonstration program emphasizes the use of innovative contextualized learning strategies which simultaneously provide language and occupational skills training that open career opportunities and pathways for LEP and Hispanic Americans.

¹ Who is a Limited English Proficient individual? FAQ on http://www.lep.gov Web site.

The Limited English Proficiency (LEP) and Hispanic Worker Initiative is a strategic effort to improve access to employment and training services for LEP persons and to better serve Hispanic Americans through workforce investment programs that address the specific workforce challenges facing these individuals. Grant funds awarded under this Solicitation for Grant Applications (SGA) should be used to develop unique and innovative strategies that specifically address the workforce challenges of LEP individuals and Hispanic Americans. Applications must reflect a strategic partnership between the public workforce investment system, the employer community, the education and training community, and, if applicable, community-based or faith-based organizations. It is anticipated that individual awards will fall within the range of $500,000 to $1 million. The Department reserves the right to award grants at either lower or higher amounts.

Key Dates: The closing date for receipt of applications under this announcement is August 15, 2005. Applications must be received no later than 5 p.m. (Eastern Time). Application and submission information is explained in detail in Part IV of this SGA.

SUPPLEMENTARY INFORMATION: This solicitation provides background information on the LEP and Hispanic Worker Initiative and critical elements required of projects funded under the solicitation. It also describes the application submission requirements, the process that eligible entities must use to apply for funds covered by this solicitation, and how grantees will be selected. This announcement consists of eight parts:

• Part I provides background information on the LEP and Hispanic Worker Initiative; an overview of the current status of the growing Hispanic American population; and describes the critical elements of the LEP and Hispanic Worker Initiative grants.

• Part II describes the size and nature of the award.

• Part III describes who qualifies as eligible applicants.

• Part IV provides information on the application and submission process.

• Part V explains the review process and rating criteria that will be used to evaluate applications for funding.

• Part VI provides award administration information.

• Part VII contains DOL agency contact information.

• Part VIII lists additional resources of interest to applicants.

Part I—Funding Opportunity Description

A. Background on the Limited English Proficiency and Hispanic Worker Initiative

The demographic composition of the American workforce is changing. In the coming years the workforce will become much older and more diverse, creating new challenges for employers, educators, and the public workforce investment system. Current immigration trends, lower birth rates in recent years, and the aging and retirement of the “baby boom” generation have resulted in an ever-shrinking United States labor force. Currently, the percentage of Hispanics within the general population is steadily increasing and their participation in the workforce is projected to grow tremendously in the coming years. As employers continue to need skilled workers to remain competitive in a global economy, the influx of Hispanics and other immigrants into the workforce is creating a higher demand for English language and occupational skill training to meet employer demands for highly skilled workers. These circumstances make it critical that employers, educators, and the public workforce system ensure that every available worker is prepared with the language and occupational skills necessary to join the workforce and for the continued competitiveness of American businesses in the 21st century. To meet the rapidly changing skill demands of growing and emerging industries and to address the issue of a potential skilled labor shortage, employers in high-growth industries and occupations are seeking out untapped labor pools, such as older workers, Hispanics, and LEP individuals. These growing segments of the population will need meaningful access to public workforce services to gain the skills required by the 21st century economy and to connect with the employers that need them.

Size of the LEP and Hispanic American Populations

According to the U.S. Census Bureau, Hispanics are the fastest-growing segment of the population in the United States, representing 13.3 percent of the total population. This means that more than one in eight people in the United States are of Hispanic origin. ² In addition, the Bureau of Labor Statistics estimates that the Hispanic labor force is expected to grow from 17.9 million in 2002 to 23.8 million by 2012. ³

² Ramirez, R.R. and de la Cruz, C.P. June 2003. The Hispanic Population in the United States: March 2002. Current Population Reports. U.S. Census Bureau.

³ Bureau of Labor Statistics Press Release. February 11, 2004. BLS Releases 2002-2012 Employment Projections. http://www.bls.gov/news.release/archives/ecopro_02112004.pdf.

The numbers for the LEP population are similarly striking. According to the U.S. Census Bureau, the number of people in the United States who spoke a language other than English at home increased by 15 million (4 percent) between 1990 and 2000. In 2000, 47 million people (18 percent) aged 5 and over reported they spoke a language other than English at home.⁴ Previously, in 1990, 32 million people (14 percent) indicated they spoke a language other than English at home. In both 1990 and 2000, Spanish was the largest of the four major non-English language groups; in 2000, Spanish was at 28 million followed by other Indo-European languages at 10 million, Asian and Pacific Islander languages at 7 million, and other languages at 1.9 million.

⁴ Shin, H.B. and Bruno, R. October 2003. Language Use and English-Speaking Ability: 2000. Census 2000 Brief. U.S. Census Bureau.

Workforce Challenges of LEP Individuals and Hispanic Americans

The influx of Hispanic workers and other immigrant populations over the past two decades has significantly increased the need for language-related services throughout the workforce investment system. LEP individuals face critical challenges in their ability to perform self-sustaining work in the United States. The lack of English language skills impedes how LEP individuals communicate with employers, educators, and service providers. In addition, immigrants with low levels of formal education who lack English language skills are the most disadvantaged in the labor market.⁵

Hispanic workers also face unique challenges in attaining the necessary education and skill requirements demanded by high-growth industries. More than two in five Hispanics aged 25 and older have not graduated from high school; two in five Hispanics are born outside of the United States, which presents language and cultural barriers; and Hispanics are more likely to live in poverty in the United States.⁶ As a result of these and other factors, Hispanics are much more likely to be out of the active labor force, and those that are employed typically earn less than non-Hispanic workers.

⁵ English Literacy and Language Minorities in the United States: Results from the National Adult Literacy Survey. U.S. Department of Education, Office of Educational Research and Improvement. August 2001.

⁶ Ramirez, R.R. and de la Cruz, C.P. June 2003. The Hispanic Population in the United States: March 2002. Current Population Reports. U.S. Census Bureau.

In 2003, ETA convened a working group to conduct an environmental scan of the LEP and Hispanic workforce issues, and to identify the major workforce challenges workers and youth in these groups face. The working group concluded that LEP and/or Hispanic Americans face the following five challenges in the workforce:

1. A severe mismatch between workers' skills and U.S. business' demands.

2. The need for a mix of services to prepare LEP and Hispanic workers for 21st century career opportunities.

3. The difficulties teachers face in helping LEP and Hispanic workers learn.

4. The high dropout rate among Hispanic and potentially other LEP youth.⁷

⁷ According to a GAO Report, the dropout rate for Hispanics was 29 percent whereas the national average was 11 percent for the year 2000. According to the Current Population Survey, more than two in five Hispanics have not graduated from high school, and more than a quarter had less than a ninth-grade education.

5. The LEP and Hispanic Workforce Paradox—high workforce participation coupled with a lack of basic language and occupational skills.

Workplace Literacy

Literacy plays an important role in each of the challenges identified above, and is the foundation for success in the workplace and for self-sufficiency. The Workforce Investment Act of 1998 (WIA) defines literacy as “an individual's ability to read, write, speak English, compute, and solve problems at levels of proficiency necessary to function on the job and in society.” According to the U.S. Department of Education, immigrants and Hispanics who arrived in the United States before age 12 possess lower levels of literacy proficiency than the general population, and those who arrived at age 12 or older are at an even greater literacy disadvantage.⁸ The literacy levels among immigrants and Hispanics are not meeting the minimum workplace standards for success in the labor market.

⁸ Literacy Levels of the Foreign-born Population and Speakers of English as a Second Language in the U.S. National Institute for Literacy. http://www.nifl.gov/nifl/facts/esl.html.

The U.S. Department of Education further defines English as a Second Language (ESL) literacy which encompasses a range of speaking and listening skills, basic reading and writing skills, and functional and workplace skills. The lowest level, Beginning ESL Literacy, indicates an ability to handle only very routine entry-level jobs that do not require communication in English. The highest level, High Advanced ESL, indicates the ability to understand and effectively use English, to interpret graphs, charts, and tables, to complete forms, to use common software and to learn new applications, as well as the capacity to instruct others in these areas.⁹

⁹ Measure and Methods for the National Reporting System for Adult Education: Implementation Guidelines. U.S. Department of Education, Office of Vocational and Adult Education, Division of Adult Education and Literacy. March 2001. http://www.nrsweb.org/reports/implement.pdf.

This solicitation does not focus on the progression of an individual through each of these traditional ESL levels since that is generally a very long-term process. Rather, the projects awarded will demonstrate how unique and innovative learning programs can quickly and effectively connect the unemployed Hispanic or LEP individual to the workplace, or upgrade the language skills, and earnings, of workers who are already employed.

Applicants are encouraged to identify literacy assessment instruments which are appropriate to the industry-identified literacy benchmarks for each particular occupation being focused on, as well as the English-language proficiency required by the industry to ensure a project participant's workplace achievement. Improving literacy levels through creative and accelerated teaching methodologies will help LEP individuals and Hispanic Americans attain the minimum workplace literacy standard necessary to successfully participate in the labor market.

Strategies for Addressing the Workforce Challenges of LEP and Hispanic Workers

In response to two Executive Orders, ETA has been strategically investing in activities to help LEP individuals and Hispanic Americans obtain services available through the workforce investment system. Executive Order 13166, signed on August 11, 2000, emphasizes that the protections of the Civil Rights Act of 1964 apply to LEP individuals and reinforces the Administration's commitment to promoting activities designed to help individuals learn English. The Order also requires all recipients of Federal financial assistance to insure that individuals in their area are being provided meaningful and equitable access to program services. Executive Order 13230, signed on October 12, 2001, established the Advisory Commission on Educational Excellence for Hispanic Americans with the emphasis of providing services to Hispanic-Americans through coordination of Federal efforts to promote high-quality education.

On May 29, 2003, ETA issued guidance on the LEP Order to help the workforce investment system understand how ETA grant funds and partnerships can further maximize the coordination of benefits to LEP individuals. In addition, the Department has developed tools to assist the workforce investment system address the special needs of LEP individuals. These include translation services on national electronic tools for participants, as well as online resources for service providers such as a technical assistance guide, a best practices catalog for serving LEP individuals, and specialized Census data that will provide local population census information and characteristics for each language group by local workforce investment area. Complete information on these activities is available at http://www.doleta.gov/reports/DPLD.cfm.

The LEP and Hispanic Worker Initiative

The Limited English Proficiency (LEP) and Hispanic Worker Initiative is a strategic effort to improve access to workforce investment services for persons with limited English proficiency and to better serve Hispanic Americans through workforce investment programs by addressing the specific workforce challenges facing these individuals. ETA has identified three broad strategies to meet these challenges:

a. Increase the English language proficiency of LEP and Hispanics.

b. Increase the high school graduation rate of LEP and Hispanic youth.

c. Upgrade the skills of LEP and Hispanic low-wage and low-skill workers.

The strategies are focused on providing a mix of services through partnerships between the public workforce investment system, community colleges, employers and, where applicable, community-based or faith-based organizations to help LEP individuals and Hispanic Americans build the skills required by growing industries.

Examples of ETA LEP and Hispanic Initiative Investments to Date

ETA has funded several unique and innovative projects that implement some of these strategies and provide solutions to the workforce challenges of LEP and Hispanic Americans. These projects offer significant examples of solutions to meeting both the workforce challenges of LEP and Hispanic individuals and the workforce needs of high-growth industry employers. These projects can also serve as models for other areas and industries facing similar concerns with LEP and Hispanic populations. It may be useful to review these projects highlighted below:

The Oregon Manufacturing Extension Partnership (MEP) has formed a partnership with Idaho Tech Help (Idaho MEP), Washington Manufacturing Services, Nevada Management Assistance Partnership (MAP), and the Northwest Food Processors Association to provide lean manufacturing training for at least 2,000 workers in 48 value-added food processing companies. A large portion of the workers in the food processing industry have limited English skills; therefore, the project includes the development of a curriculum for English language training in lean manufacturing for food processing. Each company will receive customized training based on its needs, including theory and application of fundamental lean manufacturing principles and techniques as well as a cultural awareness component for all employees. Employee training will take place on the worksite during work hours. Those who are trained will have increased job security, be on track for promotions, and receive higher wages.

The Hotel Employees and Restaurant Employees (HERE) union is implementing its Hospitality Industry-Demand project. HERE is partnering with 24 hospitality industry employers and Nevada Partners, Inc., a community-based training provider which houses the Culinary Training Academy. The project demonstrates ways to prepare Hispanic workers to fill the high-demand for qualified, trained employees in the growing hospitality industry of Las Vegas, Nevada, and Atlantic City, New Jersey. In Las Vegas, HERE is delivering occupational English training to 2,000 new area residents and immigrant workers for entry-level and career-ladder hospitality positions through its partnership. Onsite pre- and post-shift occupational English proficiency training is also being offered to 450 incumbent workers at 10 major area hotels. In Atlantic City, HERE is partnering with 13 employers and Atlantic Cape Community College to train 45 incumbent workers with limited English skills for jobs as fully trained and skilled cooks.

The Cuban American National Council, Inc. (CNC) is implementing its Academic, Leadership, and Career Prep for Hispanic American Youth (ALPHA) Program. This program assists Hispanic youth to overcome educational and employment barriers. CNC is operating Hispanic community centers in Miami-Dade County and Orlando, Florida. The project will serve 300 at-risk Hispanic youth in grades 9-12 and out-of-school Hispanic youth ages 16-21. In Miami-Dade County, the program serves students in grades 9-12 at Little Havana and Hialeah High School Institute and out-of-school youth at the Youth Center located in South Miami-Dade. In Greater Orlando, the program serves students in grades 9-12 in Orange and Osceola public high schools. The CNC also serves out-of-school youth through Workforce Florida's Institute for the Development of Engaged Adolescents (IDEA).

The Digital Learning Group (DLG) is developing and implementing its Words for Work program. The program is geared toward underemployed and unemployed Hispanics with limited English proficiency that impedes their access to employment or a living wage. Words for Work is a user-friendly multimedia instruction program that enhances participant employability by developing occupation-specific English language and related workplace skills training for health care and construction industry employment. The program works closely with local employers in demand occupations to provide quick-start training and job placement to 225 Hispanic youth and adults in the Baltimore, Maryland, metropolitan area to maximize their chances for job retention.

These demonstration examples are helping both LEP individuals and Hispanics overcome the aforementioned workforce challenges. Common in all of these demonstration projects is the unique and innovative use of creative teaching methodologies that assist workers and youth in attaining and improving English language skills while concurrently gaining the occupational skills demanded by businesses. Another common thread is the regional scope of the solutions and their applicability to multiple locations and industries. Some of the projects also provide basic skills and computer literacy skills to assist LEP and Hispanic workers and youth in becoming job ready.

Through these demonstrations and this LEP and Hispanic Worker Initiative, ETA is pursuing additional unique and innovative strategies which will assist our public workforce system in meeting the needs of businesses for a pipeline of occupationally skilled individuals, resulting in job placement or career enhancement opportunities in high-growth industries for LEP individuals and/or Hispanic Americans. Unique and innovative projects are those that:

• Merge English language instruction with occupational skill training; or

• Accelerate both the English language and occupational skills attainment by using technology in the instruction/curriculum; or

• Customize English language and occupational skill training to meet the specific needs of a high-growth industry; or

• Provide new technological platforms for learners to attain English language and occupational skills at their own pace.

B. Critical Elements of the LEP and Hispanic Worker Initiative

The purpose of the LEP and Hispanic Worker Initiative is to demonstrate the effectiveness of creative teaching methodologies that simultaneously enhance English language and occupational skills in order to respond to specific workforce challenges identified by employers. The 21st century job market demands workers with specific occupational skills as well as the ability to interact in specialized forms of English, (e.g., cultural nuance, reasoning, critical thinking, team work, etc.). Projects funded under this LEP and Hispanic Worker Initiative should include the following elements:

1. Creative Teaching Methodologies

Applicants will develop (if necessary) and implement creative teaching methodologies that accelerate and focus the learning process in order for participants to learn English language skills along with the basic and occupational skills that are in demand by local high-growth/high-demand industries and employers. Creative teaching methodologies should be flexible and provide alternate settings and schedules to ensure participants are able to successfully partake in the training programs as well as balance work and life needs. This solicitation is seeking proposals that are not centered on traditional ESL programs, but rather are using Vocational English as a Second Language (VESL) and/or Contextualized Language Instruction methodologies to provide Hispanics and LEP individuals with both the occupational skills and specialized English proficiency that will enable them to be productive and competitive workers.

• Vocational English as a Second Language—VESL programs are primarily vocational training programs that provide basic English language instruction to enable students to be successful in their vocational training and careers. Rather than full English literacy, students are expected to become proficient in the basic English required to interact with English-speaking customers, managers, or employees to successfully perform job-related duties (e.g., filling out job applications, using manuals or catalogues to understand job-related safety requirements, reading work schedules, etc.). Occupational contexts are often used to emphasize the occupational language skills necessary for success in vocational training and employment.¹⁰

¹⁰ Buchanan, Keith. Vocational English-as-a-Second-Language Programs. ERIC Digest, ED321551. ERIC Clearinghouse on Languages and Linguistics. Washington, DC 1990. http://www.ericdigests.org/pre-9216/vocational.htm.

• Contextualized Language Instruction—The contextualized language instruction strategy approaches literacy instruction by focusing on topics familiar to the learner. While traditional academic language instruction teaches the abstractions of English grammar and vocabulary in a manner that is often confusing and meaningless for LEP individuals, contextualized language instruction approaches increasing English proficiency from a practical viewpoint, seeking to relate these abstractions to the everyday life or workplace of the learner.¹¹ Concrete experiences are emphasized by using real objects and situations to set a meaningful context for the lesson. Research shows that English literacy instruction provided in a context shaped by occupational requirements allows students to make greater progress in a shorter period of time than when receiving traditional general ESL instruction.¹² This contextualized approach allows training programs, including VESL programs, to incorporate literacy and language learning opportunities into occupational education coursework.

¹¹ Tharp, Roland G. From At-Risk to Excellence: Research, Theory, and Principles for Practice. Center for Research on Education, Diversity & Excellence. 1997. http://crede.ucsc.edu/products/print/reports/rr1.html.

¹² What is Contextualized Learning? Contextualized learning technical assistance project final report & handbook on contextualized learning. Division of Adult and Continuing Education, Office of Academic Affairs, City University of New York. July 1993. http://literacy.kent.edu/~nebraska/curric/ttim1/art5.html.

In VESL and Contextualized Language Instruction, employers play a pivotal role in determining the occupational skill and language content required to perform the job successfully, and the minimum levels of proficiency needed to do so. Through participation in these short-term or accelerated training programs, which may be provided in conjunction with employment, participants of projects funded under this SGA will complete their participation prepared to meet the workforce demands of employers in high-growth industries now and throughout the coming decades.

2. Connections to High-Growth, High-Demand Industries

The Workforce Investment Act of 1998 emphasizes a workforce investment system driven by the needs of local employers. To meet this mandate, ETA is working to transform the public workforce investment system through the identification of the challenges facing high-growth industries and the development of targeted workforce solutions in collaboration with industry leaders and workforce investment professionals. The President's High Growth Job Training Initiative (High Growth Initiative) has established that high-growth/high-demand industries tend to meet one or more of the following criteria: (1) The industry is projected to add substantial numbers of new jobs to the economy; (2) the industry has a significant impact on the economy overall; (3) the industry impacts the growth of other industries; (4) the industry is being transformed by technology and innovation requiring new skills sets for workers; or (5) the industry is a new and emerging business that is projected to grow. Information specific to the workforce challenges of each industry targeted in the High Growth Initiative is available on ETA's Web site at http://www.doleta.gov/BRG/JobTrainInitiative.

One of the common challenges identified by these high-growth industries is access to new and untapped labor pools, such as Hispanic and Asian workers, LEP individuals, older workers, and individuals with disabilities. The issue of access to LEP and Hispanic individuals, in particular, arose in discussions with retail, construction, and hospitality industry leaders; however, the issue of language skills impeding worker access to jobs and progress once hired was of universal concern among all high-growth employers. For example, workers with limited English language skills comprise a significant portion of the construction workforce, therefore communication with LEP and Hispanic workers can be challenging. However, improving their English language skills can help them advance in the industry, and the jobs available have good salaries. Similarly, a large percentage of workers in the Hospitality industry are non-English speaking, resulting in the need to identify and implement solutions that facilitate the attainment of English language and workplace skills training. Finally, as the demographics of the United States continue to diversify, multilanguage employees become more desirable—such as is becoming increasingly evident in the retail industry. Retailers are customer service driven and need workers who can speak the languages of their customer base. While workers speak the language of customers, their lack of basic English language and literacy skills proficiency can hinder their ability to perform all job functions, work effectively with other employees, and move up the career ladder. As part of ETA's demand-driven workforce strategy, projects funded under this solicitation will be those that provide viable solutions to this access challenge and connect Hispanic and LEP individuals with career opportunities in local high-growth, high-demand industries where they can succeed and prosper.

3. Strategic Partnerships

In order to implement effective demand-driven training strategies for the LEP and Hispanic workforce, ETA believes that strategic partnerships must be created between the education and training community, the public workforce investment system, and employers, all of which must be actively involved in the project's design and implementation. These strategic partnerships should focus broadly on the workforce challenges of one or more of the high-growth, high-demand industry(ies) and members of the partnership must work collaboratively to identify and implement solutions that will equip the LEP and Hispanic workforce with the language and occupational skills needed to address those challenges.

Each partner should have clearly defined roles. The exact nature of these roles may vary depending on the issue areas being addressed and the scope and nature of the activities undertaken. ETA expects that each partner will, at a minimum, contribute in the following ways:

• Employers should be actively engaged and participate fully in every aspect of grant activities including defining the program strategy and goals; identifying needed skills and competencies; designing training approaches and curricula; implementing the program; contributing financial and in-kind support; and, where appropriate, hiring qualified training graduates.

• The workforce investment system may play a number of roles, including identifying and assessing LEP and Hispanic candidates for training; working collaboratively to leverage WIA investments; referring qualified candidates to the training provider; providing wrap-around support services, where appropriate; and referring qualified training graduates to employers with existing job openings.

• The education and training partner is expected to lead the curriculum development and deliver contextualized training that will prepare participants for employment opportunities in high-growth industry(ies).

To maximize the success of the project and to keep pace with the rapid changes in the economy and the nature of skills and competencies necessary for work in these industries, these partnerships need to be substantial and sustained throughout the operation of the project and beyond.

4. Leveraged Resources

Leveraging resources in the context of strategic partnerships accomplishes three goals: (1) It allows for the strategic pursuit of resources; (2) it increases stakeholder investment in the project at all levels including design and implementation phases; and (3) it broadens the impact of the project itself.

Applicants must indicate that there are cash or in-kind resources from non-Federal sources available to augment Federal dollars in the development and implementation of the project. Non-Federal resources may include those provided by private entities, foundations, and state and local tax revenue funds, among others. The partnership as a whole is expected to contribute resources, either through cash or in-kind contributions, totaling at least 50 percent of the amount of funding requested from ETA. Of this 50 percent, business partners are expected to contribute at least half of the resources leveraged for the project.

ETA strongly encourages applicants to integrate WIA funding at the state and local levels into their proposed project. Integrating WIA funds ensures that the full spectrum of assets available from the workforce investment system is leveraged to support the LEP and Hispanic American worker training activities. The wide variety of WIA programs and activities provides both breadth and depth to the proposed solution that the project will offer to both business and individuals. The use of WIA funds also serves to embed the training solution into the local or regional workforce investment system, which strengthens the system's ability to become more demand-driven. While these funds may not count toward the match requirement, they are considered to be leveraged resources and will serve to demonstrate the effective integration of services in the grant application.

5. Sustainability and Replication

The funds awarded under this SGA should be considered seed funding. Applicants are expected to sustain successful projects once grant funds have been exhausted in order to provide long-term solutions to the ongoing workforce challenges facing high-growth industries in hiring and retaining LEP and Hispanic Americans. In addition, projects must be designed with the expectation that curricula and training models that prove successful through this demonstration will be shared with the public workforce investment system in order to expand the impact of the LEP and Hispanic Worker Initiative. Projects should be applicable to multiple locations and/or industries.

6. Outcomes

The primary objective of the LEP and Hispanic Worker Initiative is to raise the English and occupational skills levels of individuals served in order to meet the workforce demands of high-growth/high-demand industries. Therefore, projects funded under the initiative must be results-oriented and identify clear and specific outcome measures that are appropriate to the proposed training solution(s). Because the LEP and Hispanic Worker Initiative will invest in customized strategies, ETA recognizes that specific outcomes will vary from project to project. Training outcomes should include those applicable performance measures tracked by the workforce system's “Common Measures” as specified in Training and Employment Guidance Letter No. 28-04 (http://wdr.doleta.gov/directives/corr_doc.cfm?DOCN=1711). Other outcome measures may include the English literacy gains attained by participants (as discussed above and referenced in TEGL 28-04 Attachment 4), employer satisfaction with the competencies of training graduates, and other measures appropriate to the scope of activities in the proposed project.

Part II—Award Information

A. Award Amount

ETA intends to fund 7 to 10 projects in a range of $500,000 to $1 million; however, this does not preclude funding decisions outside this range, or funding a smaller or larger numbers of projects, based on the number and quality of submissions. Applicants may submit budgets for quality projects at appropriate funding levels, however, as noted the limited funding available through this SGA is intended to supplement project budgets (as mentioned under Part I.B.4—Leveraged Resources) rather than be the sole funding source for the proposal.

B. Period of Performance

The period of performance will be up to 24 months from the date of execution of the grant documents. Delivery of services to participants should begin within 90 days of the grant execution date. The Department may approve a request for a no-cost extension to grantees for an additional period of time based on the success of the project and other relevant factors.

Part III—Eligibility Information

A. Eligible Applicants

Eligible applicants include any organization meeting the requirements of this Part and capable of fulfilling the terms and conditions of this solicitation such as public, private for-profit, and private non-profit organizations including community and faith-based organizations. Any applicant that is not a Workforce Investment Board or One-Stop Career Center will be required to demonstrate evidence of an active partnership or coordination with the public workforce investment system in the proposed service area for the delivery of services to participants of that area. Such evidence may include a memorandum of agreement, a memorandum of understanding, or letters of commitment from partners. Applicants are also encouraged to work with other local partners.

The application must clearly identify the applicant and describe its capacity to administer this project. The applicant must also identify whether the fiscal agent is an organization other than the applicant.

B. Demonstrated Partnerships

Applicants are encouraged to think broadly and collaborate with entities that possess a sound grasp of economic and labor market conditions in the region and are in a position to address the workforce challenges of Hispanics and LEP individuals. As indicated in Part I.B.3—Strategic Partnerships, applicants must demonstrate the existence of a partnership that includes at least one entity from each of three categories:

• The publicly funded workforce investment system, which may include state or local Workforce Investment Boards, State Workforce Agencies, and One-Stop Career Centers and their partners;

• The education and training community, which includes community and technical colleges, tribal colleges, four-year colleges and universities, and other training entities; and

• High-growth/high-demand employers or industry-related organizations such as associations and unions.

Additionally, partnerships may include community-based or faith-based organizations. While the Department welcomes applications from newly formed partnerships, applicants are advised that grant funds may not be used to develop partnerships, and participant services are expected to be a part of the application.

C. Participant's Share of Resources

As mentioned in Part I.B.4—Leveraged Resources, applicants are required to commit non-Federal resources equivalent to at least 50 percent of the grant award amount. The applicant's match resources may be provided by cash or in-kind contributions to support allowable activities; however, at least 50 percent of the applicant's share must be made up of cash or in-kind contributions from the business partners. Federal resources of any kind may not be counted to meet these requirements. For example, if a project is expected to cost $750,000, the applicant might request grant funds from ETA under this solicitation in the amount of $500,000. The applicant would then be expected to provide a match of non-Federal cash and in-kind contributions totaling $250,000 (50 percent of the funding requested), of which $125,000 (50 percent of the match) must be contributed by the business partners. Match funds must be documented on either the Application for Federal Assistance Standard Form (SF) 424 (available at http://www.whitehouse.gov/omb/grants/sf424.pdf) or the Budget Information Sheet SF-424A (available at http://www.whitehouse.gov/omb/grants/sf424a.pdf).

Please note that, to count toward these requirements, a cost must be an allowable charge for Federal grant funds. If the cost would not be allowable as a grant-funded charge, then it also cannot be counted toward the selected applicant's share. Match resources are subject to the Uniform Administrative Requirements at 29 CFR 97.24 and 29 CFR 95.23 (depending on the applicant's type of organization).

D. Other Eligibility Requirements

Veterans Priority. This program is subject to the provisions of the “Jobs for Veterans Act,” Public Law 107-288. In cases where providers of services must choose between two or more candidates with similar background and skill sets, the Job for Veterans Act requires that veterans, and in some cases, their spouses, be given priority. Please note that, to obtain priority of service, a veteran must meet the program's eligibility requirements. The directive providing policy guidance on veterans' priority is available at http://www.doleta.gov/programs/VETs/.

Administrative Costs. The primary use of the grant funds should be used to support the actual project (curriculum development, training, etc.). Therefore, applicants receiving grant funds under this solicitation may not use more than 10 percent of the amount requested for administrative costs associated with the project. Administrative costs are defined at 20 CFR 667.220.

Distribution Rights. Selected applicants must agree to give ETA the right to use and distribute all materials such as training models, curriculum, technical assistance products, etc., developed with grant funds. Materials developed with grant resources are in the public domain; therefore, ETA has the right to use, reuse, modify, and distribute all grant-funded materials and products to any interested party, including broad distribution to the public workforce investment system via the Internet or other means.

Legal rules pertaining to inherently religious activities by organizations that receive Federal financial assistance. The government is generally prohibited from providing direct Federal financial assistance for inherently religious activities. Grants under this solicitation may not be used for religious instruction, worship, prayer, proselytizing, or other inherently religious activities. Neutral, non-religious criteria that neither favor nor disfavor religion will be employed in the selection of grant recipients and must be employed by grantees in the selection of sub-recipients.

Part IV—Application and Submission Information

A. Address To Request Application Package

This SGA contains all of the information and forms needed to apply for grant funding.

B. Content and Form of Application Submission

Applicants must submit an original signed application and three hard copies. The proposal consists of two separate and distinct parts, part I and II. Both parts must be included in a complete application. Applications that fail to adhere to the instructions in this section will be deemed non-responsive and will not be considered for funding.

Part I of the proposal is the Financial Proposal and must include the following two items.

• The Application for Federal Assistance SF-424 (Appendix A) (available at http://www.whitehouse.gov/omb/grants/sf424.pdf.) Upon confirmation of an award, the individual signing the SF-424 on behalf of the applicant shall represent the responsible entity. All applications for Federal grant and funding opportunities are required to have a Dun and Bradstreet (DUNS) number. See OMB Notice of Final Policy Issuance, 68 FR 38402 (June 27, 2003). Applicants must supply their DUNS number in item #5 of SF-424 (Rev. 9-2003). The DUNS number is easy to obtain and there is no charge. To obtain a DUNS number, access http://www.dunandbradstreet.com or call 1-866-705-5711.

• The Budget Information Form SF-424A (Appendix B) (available at http://www.whitehouse.gov/omb/grants/sf424a.pdf.) In addition to preparing the Budget Information form, the applicant must provide a concise narrative explanation to support the request. The budget narrative should break down the budget and corresponding matching funds by deliverable and should discuss precisely how the administrative costs support the project goals.

Part II of the application is the Technical Proposal, which demonstrates the applicant's capabilities to plan and implement a demonstration project under the LEP and Hispanic Worker Initiative in accordance with the provisions of this solicitation. The Technical Proposal is limited to 20 double-spaced, single-sided, 8.5-inch-by-11-inch pages with 12-point font and 1-inch margins. In addition, the applicant may provide resumes, a staffing pattern, statistical information, and related materials in attachments which may not exceed 10 pages. Letters of commitment from partners providing matching resources may be submitted as attachments. Such letters will not count against the allowable maximum page totals. The applicant must reference any participating entities in the text of the Technical Proposal.

No cost data or reference to prices should be included in the Technical Proposal. The following information is required:

• A table of contents listing the application sections;

• A two-page abstract summarizing the proposed project and applicant profile information including: Applicant name, project title, industry focus, the LEP and Hispanic workforce challenge being addressed, partnership members, funding level request, and the leveraged resources;

• A timeline outlining project activities; and

• A project description addressing the Evaluation Criteria in part V.A. of this solicitation.

Please note that the table of contents, the abstract, and the timeline are not included in the 20-page limit. Applicants that do not meet these requirements will not be considered.

C. Submission Date, Times and Addresses

The closing date for receipt of applications under this announcement is August 15, 2005. Applications must be received at the address below no later than 5 p.m. (Eastern Time). Applications sent by e-mail, telegram, or facsimile (fax) will not be accepted. Applications that do not meet the conditions set forth in this notice will not be honored. No exceptions to the mailing and delivery requirements set forth in this notice will be granted.

Mailed applications must be addressed to the U.S. Department of Labor, Employment and Training Administration, Division of Federal Assistance, Attention: Mrs. Serena Boyd, Reference SGA/DFA PY 05-02, 200 Constitution Avenue, NW., Room N-4438, Washington, DC 20210. Applicants are advised that mail delivery in the Washington area may be delayed due to mail decontamination procedures. Hand-delivered proposals will be received at the above address. All overnight mail will be considered to be hand-delivered and must be received at the designated place by the specified closing date.

Applicants may apply online at http://www.grants.gov. Any application received after the deadline will not be accepted. For applicants submitting electronic applications via Grants.gov, it is strongly recommended that you immediately initiate and complete the “Get Started” steps to register with Grants.gov at http://www.grants.gov/GetStarted. These steps will probably take multiple days to complete which should be factored into your plans for electronic application submission in order to avoid facing unexpected delays that could result in the rejection of your application.

Late Applications: Any application received after the exact date and time specified for receipt at the office designated in this notice will not be considered, unless it is received before awards are made and it (a) was sent by U.S. Postal Service registered or certified mail not later than the fifth calendar day before the date specified for receipt of applications (e.g., an application required to be received by the 20th of the month must be postmarked by the 15th of that month) or (b) was sent by U.S. Postal Service Express Mail or online to addressee not later than 5 p.m. at the place of mailing or electronic submission one working day prior to the date specified for receipt of applications. It is highly recommended that online submissions be completed one working day prior to the date specified for receipt of applications to ensure that the applicant still has the option to submit by U.S. Postal Service Express Mail in the event of any electronic submission problems. “Postmarked” means a printed, stamped, or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness.

D. Intergovernmental Review

This funding opportunity is not subject to Executive Order (EO) 12372, “Intergovernmental Review of Federal Programs.”

E. Funding Restrictions

Determinations of allowable costs will be made in accordance with the applicable Federal cost principles as indicated in Part VI.B. Disallowed costs are those charges to a grant that the grantor agency or its representative determines not to be allowed in accordance with the applicable Federal Cost Principles or other conditions contained in the grant. As discussed above, only costs that would be allowable with grant funds may be counted as part of the recipients' share of project costs.

F. Other Submission Requirements

Withdrawal of Applications. Applications may be withdrawn by written notice or telegram (including mailgram) received at any time before an award is made. Applications may be withdrawn in person by the applicant or by an authorized representative thereof, if the representative signs a receipt for the proposal.

Part V—Application Review Information

A. Rating Criteria

This section identifies and describes the criteria that will be used to evaluate the proposals for the LEP and Hispanic Worker Initiative. The criteria and point values are:

Criteria | Points
1. Statement of Need and Target Population | 15
2. Strategic Partnership and Leveraged Resources | 10
3. Project Design | 30
4. Outcomes, Benefits, and Impact | 25
5. Sustainability and Replication | 10
6. Program Management and Organization Capacity | 10
Total Possible Points | 100

1. Statement of Need and Target Population (15 Points)

The applicant must demonstrate a clear and specific need for the LEP and Hispanic Worker Initiative investment in that workforce area. Projects funded through this solicitation should be based in local, regional, or state labor markets. The applicant must describe the economic and workforce conditions in the project community; identify the needs of the targeted high-growth industry(ies) that will be addressed by the project; and define the high-demand occupations targeted for project participants. The applicant is expected to indicate the appropriateness of the occupations being focused on given local labor market conditions, wage enhancement potential, job retention for the target group, and upward mobility opportunities for participants. Applicants may draw from a variety of resources for supporting data, including traditional labor market information, information from economic developers on locally projected growth, information collected by business organizations such as chambers of commerce and trade associations, and discussions with local businesses that make up the high-growth industries of the local area.

The applicant must describe the proposed target population for the project, including the nature of the population in the region or area that would be served such as what percent of the population is LEP or Hispanic. The description should include the number of individuals to be served, and the specific workforce challenge(s) to be addressed through the project. In addition, the applicant should identify the target group to be served (i.e., incumbent workers, new job entrants, youth or adults) who lack the language, basic, and occupational skills identified as in high demand locally.

Scoring on this criterion will be based on the extent of demonstrated need. Important factors for evaluation include:

• Demonstrated knowledge of the LEP and Hispanic population in the project area, including their impact on and participation in the local or regional labor force.

• Clear identification of target population characteristics, including their English language proficiency, and basic and occupational skill needs.

• Demonstrated existence of one or more industry identified workforce challenge in the area in which the grant activity will take place.

• Documented language and skill shortages for industry or occupations targeted.

• Identification of the sources of the data used in the analysis.

• If appropriate, the nature of larger strategic economic development or workforce investment plans or projects with which the proposed project is aligned.

2. Strategic Partnership and Leveraged Resources (10 Points)

Applicants must demonstrate that the proposed project will be implemented by a partnership that includes at least one entity from each of three categories:

• The publicly funded workforce investment system, which may include state and local Workforce Investment Boards, State Workforce Agencies, and One-Stop Career Centers and their partners;

• The education and training community, which includes community and technical colleges, four year colleges and universities, and other training entities; and

• Employers or industry-related organizations such as associations and unions.

Additionally, partnerships may include community-based or faith-based organizations. While the Department welcomes applications from newly formed partnerships, applicants are advised that grant funds may not be used to develop partnerships.

The Department encourages, and will be looking for, applications that go beyond the minimum level of partnership and demonstrate broader, substantive, and sustainable partnerships. The applicant must identify the partners and explain the meaningful role each partner plays in the project as well as how resources will be leveraged among the partners. Applicants must demonstrate their ability to leverage non-Federal resources equivalent to at least 50 percent of the amount of funding requested from ETA. Both cash and in-kind contributions are acceptable. At least 50 percent of the applicant's total share of resources must be cash or in-kind contributions from business partners. Federal resources cannot be counted towards the match.

Scoring on this criterion will be based on the comprehensiveness of the partnership, the degree to which each partner plays a committed role, and the demonstrated commitment of leveraged non-Federal resources for the project. Important factors include:

• The number of partners involved, the nature of their in-kind or cash contribution, their knowledge and experience concerning the proposed grant activities, and their ability to impact the success of the project.

• The overall completeness of the partnership, including its ability to manage all aspects and stages of the project and to coordinate individual activities with the partnership as a whole.

• Evidence that key partners have expressed a clear commitment to the project and understand their areas of responsibility. (Examples include a letter of commitment, an MOU, or partner signatures on the proposal.)

• Evidence of a plan for interaction between partners at each stage of the project, from planning to execution.

• Evidence that the partnership has the capacity to achieve the outcomes of the proposed project.

• The demonstrated commitment of leveraged resources of at least 50 percent of the total amount requested from ETA, including an itemized description of each cash or in-kind contribution and a description of how each contribution will be used to further the goals of the project.

3. Project Design (30 Points)

Applicants are requested to specify the purpose of the proposed project and demonstrate how the project will provide solutions to the workforce challenges of LEP individuals or Hispanics as well as those of the targeted high-growth industries. Describe how the training curricula proposed to upgrade the language, basic, and occupational skills of participants will be integrated. Describe how creative teaching methodologies will be used in implementing accelerated education and training services for participants and where such methodologies will be provided (i.e., on the worksite, in a classroom setting, at a One-Stop Career Center, etc.). Describe how these creative teaching methodologies will:

• Shorten the period of time required for individuals to acquire the language, basic, and occupational skills demanded by local high-growth industry employers;

• Increase the levels of literacy and employment communication skills to meet the levels demanded by local high-growth employers; and

• Increase the direct participation of high-growth employers in developing or implementing the training.

Applicants are required to identify the outreach and recruitment methods that will be used to contact and recruit participants including (if applicable) any organization other than the grantee that will be responsible for such activities. Describe why the methods and organizations (if applicable) will be effective in achieving the planned participation levels. Identify the criteria that will be used, and the organization (if applicable) that will be responsible for selecting individuals that will participate in the project.

Applicants are required to describe the service process that will be used in the project including any sequence of services in the overall process (i.e., assessments, training, etc.), how the specific services for participants are determined, and which partner will provide the services. For example, partners of the One-Stop Career Center system can play a key role in assessing each participant's basic language and occupational skill levels as well as assist in placing individuals in employment after completion of training. In addition, identify the support services (if applicable) that will be provided to participants during and post training as well as pre- and post-employment/placement services, and describe how such services will facilitate the individuals' participation. Describe the rationale for the services that are necessary for participants to attain, retain, or advance in the targeted occupation or industry. Indicate what services will be provided by project partners or sources other than the grant itself.

Scoring on this criterion will be based on how well the service plan/project design provides solutions to the workforce challenges of LEP and Hispanic workers while addressing the needs of high-growth employers for a skilled workforce. Important factors include:

• The existence of a work plan that is responsive to the applicant's statement of need and target population, and that includes specific goals, objectives, activities, implementation strategies, and a timeline.

• The demonstrated link between the proposed project and the workforce challenges identified for LEP and Hispanic workers.

• The existence of a strategy that incorporates outreach and recruitment activities geared toward the appropriate target group, including disseminating information about the project and planned activities.

• The industry and occupation, in which participants are to be placed, retained, or advanced relative to target skills and wage goals.

• Evidence that the training curricula will be developed (if applicable) and implemented to meet language, basic, and occupational skill standards required by high-growth employers.

• The length of the project for participants.

4. Outcomes, Benefits and Impact (25 Points)

Applicants must fully describe the outcomes, benefits, and impacts expected to result from the project in relation to the workforce challenges described in the statement of need. Applicants must describe the proposed outcome measures relevant to measuring the success or impact of the project. To the extent possible, such outcome measures should mirror those defined by the workforce system's Common Measures for all Federal job training and employment programs, which include an entered employment rate, a retention rate, and a measurement of earnings gains as specified in Training and Employment Guidance Letter No. 28-04 (http://wdr.doleta.gov/directives/corr_doc.cfm?DOCN=1711).

Other performance outcomes to be measured should include English literacy skills gained by participants, and diplomas or credentials resulting from the project, as appropriate. Applicants are required to identify the assessment tool(s) and/or method(s) that will be used to determine the skills and aptitudes of participants, including tools that will be used to measure English proficiency and basic skills levels. Describe the specific strategies and methods that will be used for measuring skills acquisition during the training process. Any discussion of outcome goals should include the methods proposed to collect and validate outcome data in a timely and accurate manner.

Scoring on this criterion will be based on the following factors:

• The expected project outcomes are clearly identified, measurable, realistic, and consistent with the objectives of the project.

• Applicant commitment to track and report training outcome measures, including employment outcomes.

• Identification of the specific assessment instrument(s) and method(s) that will be used for measuring industry-identified occupational and literacy skills gains during the training process.

• The ability of the applicant to achieve the stated outcomes within the time frame of the grant.

• The appropriateness of the outcomes with respect to the requested level of funding.

• The extent to which the project will be of significant and practical use to the public workforce investment system.

5. Sustainability and Replication (10 Points)

Applicants must provide evidence that, if successful, activities supported by the demonstration grant project will be continued after the expiration date of the grant. Applicants must describe how the model, training curricula, partnership strategies, and project design elements can be replicated in other workforce investment areas.

Scoring of this criterion will be based on the extent to which the project can be sustained after the grant expires and the expressed commitment of the applicant to make curricula and training models available for distribution.

6. Program Management and Organization Capacity (10 Points)

Applicants must describe their ability to provide the services proposed and their experience working with integrated learning strategies and with LEP individuals and Hispanics. The applicant must also include a description of organizational capacity and the organization's track record in projects similar to that described in the proposal and/or related activities of the primary actors in the partnership. Applicants must identify a project manager, discuss the proposed staffing pattern and the qualifications and experience of key staff members, and give evidence of the utilization of data systems to track outcomes. Scoring on this factor will be based on evidence of the following:

• The time commitment of the proposed staff is sufficient to assure proper direction, management, and timely completion of the project.

• The roles and contribution of staff, consultants, and collaborative organizations are clearly defined and linked to specific objects and tasks.

• The background, experience, and other qualifications of staff are sufficient to carry out their designated roles.

• The applicant organization has significant capacity to accomplish the goals and outcomes of the project, including appropriate systems to track outcome data.

B. Review and Selection Process

Applications for the LEP and Hispanic Worker Initiative will be accepted commencing on the date of publication of this announcement until the closing date. A technical review panel will carefully evaluate applications against the rating criteria described in Part V.A., which are based on the policy goals, priorities, and emphases set forth in this SGA. Up to 100 points may be awarded to an application, based on the Rating Criteria described in Part V.A. The panel results are advisory in nature and not binding on the Grant Officer. The Grant Officer may consider any information that comes to his or her attention.

The ranked scores will serve as the primary basis for selection of applications for funding, in conjunction with other factors such as urban, rural, and geographic balance; the availability of funds; uniqueness and innovative aspect of the project; and which proposals are most advantageous to the government. The government reserves the right to award projects with or without negotiations. Should a grant be awarded without negotiations, the award will be based on the applicant's signature on the SF-424, which constitutes a binding offer.

Part VI—Award Administrative Information

A. Award Notices

All award notifications will be posted on the ETA homepage at http://www.doleta.gov.

B. Administrative and National Policy Requirements

Administrative Program Requirements. All grantees, including faith-based organizations, will be subject to all applicable Federal laws (including provisions in appropriations law), regulations, and the applicable Office of Management and Budget (OMB) Circulars. The applicants selected under the SGA will be subject to the following administrative standards and provisions, if applicable:

• Workforce Investment Boards—20 Code of Federal Regulations (CFR) Part 667.220 (Administrative Costs).

• Non-Profit Organizations—Office of Management and Budget (OMB) Circulars A-122 (Cost Principles) and 29 CFR Part 95 (Administrative Requirements).

• Educational Institutions—OMB Circulars A-21 (Cost Principles) and 29 CFR Part 95 (Administrative Requirements).

• State and Local Governments—OMB Circulars A-87 (Cost Principles) and 29 CFR Part 97 (Administrative Requirements).

• Profit-Making Commercial Firms—Federal Acquisition Regulation (FAR)—48 CFR Part 31 (Cost Principles), and 29 CFR Part 95 (Administrative Requirements).

• All entities must comply with 29 CFR Parts 93 and 98, and, where applicable, 29 CFR Parts 96 and 99.

• In accordance with Section 18 of the Lobbying Disclosure Act of 1995, Public Law 104-65 (2 U.S.C. 1611) non-profit entities incorporated under Internal Revenue Code Section 501(c)(4) that engage in lobbying activities will not be eligible for the receipt of Federal funds and grants.

Note: Except as specifically provided in this notice, ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the ETA's award does not provide the justification or basis to sole-source the procurement, i.e., avoid competition, unless the activity is regarded as the primary work of an official partner to the application.

Evaluation Requirements. The Department may require that the project participate in an overall evaluation of the LEP and Hispanic Worker Initiative performance. To measure the impact of grants funded under the initiative, the Department may arrange for or conduct an independent evaluation of the outcomes and benefits of the projects. Grantees must agree to make records on participants, employers and funding available and to provide access to program operating personnel and to participants, as specified by the evaluator(s) under the direction of the Department, including after the expiration date of the grant.

C. Reporting Requirements

The grantee is required to provide the reports and documents listed below:

Quarterly Financial Reports. A Quarterly Financial Status Report (SF 269) is required until such time as all funds have been expended or the grant period has expired. Quarterly financial reports are due 30 days after the end of each calendar year quarter. Grantees must use ETA's Online Electronic Reporting System.

Progress Reports. The grantee must submit a quarterly progress report to the designated Federal Project Officer within 30 days after the end of each calendar year quarter. Two copies are to be submitted providing a detailed account of activities undertaken during that quarter. The Department may require additional data elements to be collected and reported on either a regular basis or special request basis. Grantees must agree to meet the Department's reporting requirements. The quarterly progress report should be in narrative form and should include:

1. In-depth information on accomplishments including project success stories, upcoming grant activities, and promising approaches and processes.

2. Progress toward performance outcomes, including updates on product, curricula, and training development.

• Training outcomes should include employment placement, employment retention, earnings gain data, as well as literacy, language, and occupational skill attainment.

• When appropriate, include employer outcomes such as increased productivity, Return on Investment (ROI), and/or employee retention rates.

3. Challenges, barriers, or concerns regarding project progress.

4. Lessons learned in the areas of project administration and management, project implementation, partnership relationships, and other related areas.

Final Report. A draft final report must be submitted no later than 60 days prior to the expiration date of the grant. This report must summarize project activities, employment outcomes, and related results of the training project, and should thoroughly document the project solution approach. After responding to ETA's questions and comments on the draft report, three copies of the final report must be submitted no later than the grant expiration date. Grantees must agree to use a designated format specified by the Department to prepare the final report.

Part VII—Agency Contacts

Any questions regarding this SGA should be faxed to Ms. Serena Boyd, Grants Management Specialist, Division of Federal Assistance, fax number (202) 693-2705 (not a toll-free number). You must specifically address your fax to the attention of Ms. Serena Boyd and should include SGA/DFA PY 05-02 a contact name, fax, and phone number.

FOR FURTHER INFORMATION CONTACT: Ms. Serena Boyd, Grants Management Specialist, Division of Federal Assistance, at (202) 693-3338 (not a toll-free number). This announcement is also being made available on the ETA Web site at http://www.doleta.gov/sga/sga.cfm and http://www.grants.gov.

Part VIII—Other Information

Resources for the Applicant. The Department maintains a number of Web-based resources that may be of assistance to applicants. The Web page for ETA's Division of Policy, Legislation and Dissemination (http://www.doleta.gov/reports/DPLD.cfm) is a valuable source of background information for the LEP and Hispanic Worker Initiative. America's Service Locator (http://www.servicelocator.org) provides a directory of the nation's One-Stop Career Centers. The Business Relations Group (http://www.doleta.gov/BRG) provides information on the President's High Growth Job Training Initiative. Applicants are encouraged to review “Understanding the Department of Labor Solicitation for Grant Applications and How to Write an Effective Proposal” (http://www.dol.gov/cfbci/sgabrochure.htm). For a basic understanding of the grants process and basic responsibilities of receiving Federal grant support, please see “Guidance for Faith-Based and Community Organizations on Partnering with the Federal Government (http://www.fbci.gov).

Signed at Washington, DC, this 13th day of June 2005.
James Stockton,
Grant Officer, Employment and Training Administration.

Attachments:

Appendix A: (SF) 424 Application Form

Appendix B: (SF) 424-A Budget Information Form

Appendix C: OMB Survey N. 1890-0014: Survey on Ensuring Equal Opportunity for Applicants

BILLING CODE 4510-30-P

[FR Doc. 05-11881 Filed 6-15-05; 8:45 am]

BILLING CODE 4510-30-C